ENVIRONMENTAL PROTECTION AGENCY

[Petition IV-2011-1; FRL-9907-12-Region 9]

Clean Air Act Operating Permit Program; Petition for Objection to State Operating Permit for Hu Honua Bioenergy Facility, LLC; Pepeekeo, Hawaii

AGENCY: Environmental Protection Agency (EPA).

ACTION: Notice of final order on petition to object to a state operating permit.

SUMMARY: Pursuant to Clean Air Act (CAA) Section 505(b)(2) and 40 CFR 70.8(d), the EPA Administrator signed an Order, dated February 7, 2014, partially granting and partially denying a petition to object to a CAA title V operating permit proposed by the Clean Air Branch, Environmental Management Division, Hawaii Department of Health (HDOH) for the Hu Honua Bioenergy Facility, LLC (Hu Honua) in Pepeekeo, Hawaii. For the Issues that EPA denied, the Order constitutes a final action on the petition submitted by the Law Office of Marc Chytilo, on behalf of Preserve Pepeekeo Health & Environment (Petitioner), on August 26, 2011. Pursuant to section 505(b)(2) of the CAA, a petitioner may seek judicial review in the United States Court of Appeals for the appropriate circuit of those portions of the petition which EPA denied. Any petition for review shall be filed within 60 days from the date this notice appears in the Federal Register, pursuant to section 307 of the CAA.

ADDRESSES: Copies of the Order, the petition, and all pertinent information relating thereto are on file at the following location: EPA Region 9; Air Division; 75 Hawthorne Street; San Francisco, California 94105.

FOR FURTHER INFORMATION CONTACT: Gerardo Rios, Air Permits Office, EPA Region 9, at (415) 972-3974 or rios.gerardo@epa.gov.

SUPPLEMENTARY INFORMATION: The CAA affords EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period.

The petitioner submitted a petition regarding Hu Honua on August 26, 2011, requesting that EPA object to the CAA title V operating permit, identified as Covered Source Permit Number 0724-01-C. The Petitioner alleged that the permit was not consistent with the CAA because: (1) EPA raised objectionable issues in its comment letter on the proposed permit; (2) the permit fails to ensure compliance with criteria air pollutant emission limits; (3) the permit fails to ensure compliance with Best Available Control Technology (BACT) requirements for CO; (4) the permit fails to ensure compliance with hazardous air pollutant (HAP) emission limits; (5) the baghouse is not adequately described or monitored; (6) the permit fails to ensure compliance with applicable state law and State Implementation Plan (SIP) requirements; (7) the permit fails to ensure compliance with Maximum Achievable Control Technology (MACT) requirements for major sources of HAPs; (8) the permit impermissibly exempts startups and shutdowns from emissions limits; (9) the facility's biomass handling, chipping, and storage operations do not qualify as an “insignificant activity”; (10) the permit fails to address emissions from trona or lime and ash handling; (11) HDOH failed to address ammonia slip and sulfuric acid mist emissions; (12) HDOH failed to directly regulate and evaluate the impacts of PM2.5; and (13) HDOH failed to adequately respond to significant public comments.

On February 7, 2014, the Administrator issued an Order partially granting and partially denying the petition. The Order explains EPA's rationale for partially granting and partially denying the petition.

Dated: February 11, 2014.
Jared Blumenfeld,
Regional Administrator, Region IX.

[FR Doc. 2014-04174 Filed 2-25-14; 8:45 am]

BILLING CODE 6560-50-P